DEPARTMENT OF LABOR

Employment and Training Administration

[TA-W-65,789]

Bracalente Manufacturing Company, Inc., Trumbaursvile, PA; Notice of Termination of Investigation

Pursuant to Section 221 of the Trade Act of 1974, as amended, an investigation was initiated on April 14, 2009 in response to a petition filed on behalf of workers of Bracalente Manufacturing Company, Inc., Trumbaursville, Pennsylvania.

The petitioner has requested that the petition be withdrawn. Consequently, the investigation has been terminated.

Signed at Washington, DC, this 13th day of May 2009.
Linda G. Poole,
Certifying Officer, Division of Trade Adjustment Assistance.

[FR Doc. E9-13902 Filed 6-12-09; 8:45 am]

BILLING CODE 4510-FN-P